DEPARTMENT OF THE INTERIOR

National Park Service

60-Day Notice of Intention To Request Clearance of Collection of Information; Opportunity for Public Comment

AGENCY: Department of the Interior, National Park Service.

ACTION: Notice and request for comments.

SUMMARY: Under provisions of the Paperwork Reduction Act of 1995 and 5 CFR Part 1320, Reporting and Record Keeping Requirements, the NPS invites comments on the need for gathering the information in the proposed survey (OMB #1024-XXXX).

DATES: Public comments will be accepted on or before November 17, 2006.

ADDRESSES: Send Comments to: Kirsten M. Leong, NPS SCEP Student, Department of Natural Resources, Cornell University, 306 Fernow Hall, Ithaca, NY 14853; Phone: 607-255-4136; e-mail: kml47@cornell.edu.

To Request a Draft of Proposed Collection of Information Contact: Kirsten M. Leong, NPS SCEP Student, Department of Natural Resources, Cornell University, 306 Fernow Hall, Ithaca, NY 14853; Phone: 607-255-4136; e-mail: kml47@cornell.edu.

FOR FURTHER INFORMATION CONTACT: Margaret Wild, Biological Resource Management Division, 1201 Oakridge Dr., Suite 200, Fort Collins, CO 80525; Phone: 970-225-3593; e-mail: Margaret_Wild@nps.gov.

SUPPLEMENTARY INFORMATION: Title: Identifying Capacity for Local Community Participation in Wildlife Management Planning: White-tailed Deer in Northeastern NPS Units.

Bureau Form Number: None.

OMB Number: To be requested.

Expiration Date: To be requested.

Type of Request: New collection.

Description of Need: NPS and DOI policies have begun to place more emphasis on civic engagement and public participation in park management (NPS Director's Order 75A), as well as communication and collaboration with local communities (NPS Director's Order 52A. Discussions with NPS natural resource managers indicate a need for tools to better understand local community residents and ways to engage them in management and planning, especially in situations where local communities may be impacted by NPS management decisions.

Biological studies have been conducted on white-tailed deer (Odocoileus virginianus) in park units of the northeastern U.S. for over two decades to determine deer population density, movement, and impact on park resources. Because deer biology has been relatively well-studied in parks, management issues related to deer were chosen as a model system to study the ways in which input from local stakeholders can affect wildlife management planning. Five sites were chosen to represent various stages of deer-issue maturity and amount of outreach efforts related to these issues: The Potomac Gorge area of Chesapeake and Ohio Canal National Historical Park; Fire Island National Seashore; Morristown National Historical Park; Prince William Forest Park; and Valley Forge National Historical Park. Fire Island National Seashore is the only park identified with a long history of deer issues and experience with deer outreach activities. Valley Forge National Historical Park and Morristown National Historical Park represent parks with a long history of deer issues and limited deer outreach activities. Prince William Forest Park and Chesapeake and Ohio National Historical Park (Potomac Gorge area) represent parks with relatively young deer issues and relatively few outreach activities related to deer. No parks with young deer issues and many deer outreach activities were identified.

This study will focus on residents of communities near these parks, using a mail-back survey to describe and understand their opinions and experiences related to the role of parks in deer and other wildlife management, their understanding of deer issues and ways to address them in parks, and the influence of public input in wildlife management in parks. Follow-up telephone interviews with non-respondents (up to 100 per park) will be conducted to assess non-response bias. This information will assist park staff in improving communication with the public in the event that these parks consider managing impacts related to deer in the future. However, any formal management that is considered will be subject to public input requirements of the National Environmental Policy Act (NEPA, 42 U.S.C. 4231 et seq.). Therefore, research associated with this study should not be considered equivalent to public scoping related to a NEPA process. In addition, insights from this study will enhance NPS ability to respond to other natural resource management issues that involve local communities. Comments are invited on: (1) The practical utility of the information being gathered; (2) the accuracy of the burden hour estimate; (3) ways to enhance the quality, utility, and clarity of the information to be collected; and (4) ways to minimize the burden to respondents, including use of automated information collection techniques or other forms of information technology.

Automated data collection: This information will be primarily collected via mail-back questionnaire. Telephone interviews will be conducted with a small number of non-respondents to the mail survey. No automated data collection will take place.

Description of respondents: Residents of communities near: the Potomac Gorge area of Chesapeake and Ohio Canal National Historical Park; Fire Island National Seashore; Morristown National Historical Park; Prince William National Historical Park; and Valley Forge National Historical Park.

Estimated average number of respondents: 2,500 (2,000 respondents for mail survey; 500 respondents for telephone interviews).

Estimated average number of responses: 2,500 (2,000 respondents for mail survey; 500 respondents for telephone interviews).

Estimated average burden hours per response: ⅓ hour for mail survey respondents; 1/12 hour for follow-up telephone interview respondents.

Frequency of Response: 1 time per respondent.

Estimated annual reporting burden: 709 hours.

Dated: September 7, 2006.
Leonard E. Stowe,
NPS, Information Collection Clearance Officer.

[FR Doc. 06-7719 Filed 9-15-06; 8:45 am]

BILLING CODE 4312-52-M